DEPARTMENT OF LABOR

Employment and Training Administration

[TA-W-55,848]

Crotty Corporation, Quincy, MI; Notice of Revised Determination on Reconsideration

By letter dated December 16, 2004, a petitioner requested administrative reconsideration regarding the Department's Negative Determination Regarding Eligibility To Apply for Worker Adjustment Assistance, applicable to the workers of the subject firm.

The initial investigation resulted in a negative determination issued on December 1, 2004, based on the finding that the workers of the subject facility did not supply a component part to a trade certified firm, because the articles produced by the petitioning worker group were finished products, and not component parts of articles that were the basis for certification of the primarily affected firm. Moreover, imports of automotive sun visors did not contribute importantly to worker separations at the subject plant, and no shift of production to a foreign source occurred. The denial notice was published in the Federal Register on December 22, 2004 (69 FR 76785).

To support the request for reconsideration, the petitioner supplied additional information indicating that although the subject firm had lost a contract to produce a specific model line of sun visors (GMT-360) for a major customer to another domestic firm, that firm actually produces the sun visors in Mexico.

Upon further review and contact with the subject firm and the major customer, it was revealed that when the original bid survey was conducted, the major customer did not know that the winning bidder (another domestic firm) would be producing the sun visors in Mexico. New information confirms that said sun visors are now being produced in Mexico and imported to the U.S. for delivery to the customer.

The investigation further revealed that there were declines in sales, production, and employment at the subject facility during the relevant period, and the loss of this contract accounted for a meaningful portion of the subject facility's lost sales and production.

In accordance with section 246 the Trade Act of 1974 (26 U.S.C. 2813), as amended, the Department of Labor herein presents the results of its investigation regarding certification of eligibility to apply for alternative trade adjustment assistance (ATAA) for older workers.

In order for the Department to issue a certification of eligibility to apply for ATAA, the group eligibility requirements of section 246 of the Trade Act must be met. The Department has determined in this case that the requirements of section 246 have been met.

A significant number of workers at the subject division are age 50 or over and possess skills that are not easily transferable. Competitive conditions within the industry are adverse.

Conclusion

After careful review of the additional facts obtained on reconsideration, I conclude that increased imports of articles like or directly competitive with those produced at Crotty Corporation, Quincy, Michigan, contributed importantly to the declines in sales or production and to the total or partial separation of workers at the subject firm. In accordance with the provisions of the Act, I make the following certification:

All workers of Crotty Corporation, Quincy, Michigan, who became totally or partially separated from employment on or after October 20, 2003 through two years from the date of this certification, are eligible to apply for adjustment assistance under section 223 of the Trade Act of 1974, and are eligible to apply for alternative trade adjustment assistance under section 246 of the Trade Act of 1974.

Signed in Washington, DC this 14th day of February 2005.
Elliott S. Kushner,
Certifying Officer, Division of Trade Adjustment Assistance.

[FR Doc. E5-689 Filed 2-18-05; 8:45 am]

BILLING CODE 4510-30-P